DEPARTMENT OF THE INTERIOR

Bureau of Land Management

[CO-130; COC 69290]

Notice of Intent To Prepare an Environmental Impact Statement for the Proposed Red Cliff Coal Mine, Railroad Spur Line, and Other Associated Surface Facilities in Garfield County and Mesa County, CO

AGENCY: Bureau of Land Management, Interior; U.S. Army Corps of Engineers, Army; Office of Surface Mining, Interior.

ACTION: Notice of intent.

SUMMARY: Pursuant to Section 102(2)(c) of the National Environmental Policy Act of 1969 (NEPA) and the Federal Land Policy and Management Act of 1976, notice is hereby given that the Bureau of Land Management (BLM), Grand Junction Field Office located in Grand Junction, CO, will be directing the preparation of an Environmental Impact Statement (EIS) for the Proposed Red Cliff Coal Mine near Loma, Colorado, including Right-of-Way and Land Use Applications for facilities on Federal Lands, submitted by CAM-Colorado, LLC (CAM).

The EIS will analyze the development of surface facilities for coal mining associated with CAM's proposed underground Red Cliff Mine, including roads, a water pipeline, coal stockpile and waste disposal areas, a coal preparation plant, the mine portal, other administrative and operations facilities, and a railroad spur line that would connect to the existing Union Pacific Railroad line near Mack, Colorado. Cooperating agencies include the U.S. Army Corps of Engineers, the Office of Surface Mining, the Colorado Department of Natural Resources, Mesa County, and Garfield County. The BLM invites the public to participate in the NEPA process.

DATES: The scoping comment period will commence with the publication of this notice and terminate at 45 days. A public meeting will be held during the scoping comment period in Fruita, Colorado. Comments on the scope of the EIS, including concerns, issues, or proposed alternatives that should be considered, can be made at the public meeting or can be submitted in writing to the address below. The date of the public meeting will be announced through the local media, newsletters, and the BLM Red Cliff Mine mailing list. The Draft EIS is expected to be available for public review and comment in Spring 2007 and the Final EIS is expected to be available in late 2007.

ADDRESSES: Written comments should be sent to: David Lehmann, BLM, 2815 H Road, Grand Junction, Colorado 81506. At the close of the scoping comment period, written comments, including names and addresses of respondents, will be available for public review at the offices of the BLM Grand Junction Field Office, 2815 H Road, Grand Junction, Colorado 81506, during normal working hours (7:30 a.m. to 4:30 p.m., except holidays). Submissions from organizations or businesses will be made available for public inspection in their entirety. Individuals may request confidentiality with respect to their name, address, and phone number. If you wish to have your name or street address withheld from public review, or from disclosure under the Freedom of Information Act, you must state this prominently at the beginning of your comment. Such requests will be honored to the extent allowed by law. Comment contents will not be kept confidential. The Draft EIS will consider comments and issues received during public scoping, and responses to comments on the Draft EIS will be published as part of the Final EIS.

FOR FURTHER INFORMATION CONTACT: For further information or to have your name added to our mailing list, contact David Lehmann, Supervisory Natural Resource Specialist, at (970) 244-3021. E-mail can be directed to David_Lehmann@blm.gov and mail can be sent to the address above.

SUPPLEMENTARY INFORMATION: On September 28, 2005, CAM filed a Right-of-Way application with BLM for facilities associated with the proposed Red Cliff Mine. Subsequently, on February 10, 2006, CAM submitted a Land Use Application to the BLM for other facilities supporting the proposed coal mine project. A mine permit will also be required for all mine facilities, in accordance with U. S. Office of Surface Mining and Colorado Division of Minerals and Geology regulations. This EIS will meet the National Environmental Policy Act requirements for the mine permit. There will be additional opportunities for public involvement when the mine permit application is processed.

The proposed Red Cliff Mine is located approximately 11 miles north of the towns of Mack and Loma, Colorado, and 1.5 miles east of Colorado State Highway 139. CAM is proposing a new portal and associated facilities to extract low-sulfur coal from Federal Coal Leases C-0125515 and C-0125516 and from several potential new Federal leases as well as a small amount of private coal.

The proposed railroad line would traverse approximately 9.5 miles of Federal land, and include one crossing of State Highway 139 and approximately 5 miles of private land. The EIS will analyze the potential impacts associated with the construction and operation of facilities proposed in CAM's Right-of-Way and Land Use Applications, and other potential impacts associated with the Red Cliff Mine project. Citizens are invited to help identify issues or concerns and to provide input on the proposed action. Alternatives will be developed through the public involvement process and analyzed in the EIS.

A company affiliated with CAM is currently mining approximately 280,000 tons of coal per year from the nearby McClane Canyon Mine. CAM's production from the Red Cliff Mine would be approximately 8 million tons per year. CAM is proposing to load the coal onto rail cars at the mine site and ship it to coal consumers. CAM would recover this coal by mining the Cameo Seam using both room and pillar and longwall mining techniques. As is consistent with the goals of the 2001 National Energy Policy report and the Energy Policy Act of 2005, this project would help meet the existing and future domestic market demand for low-sulfur coal, thereby supporting clean coal initiatives; and would encourage and facilitate meeting national demands for electricity from a domestic source of energy.

The BLM will analyze the potential impacts of the proposed action and no action alternatives, as well as other reasonable alternatives that could include optional approaches for activities proposed in the project area. The alternatives will be further defined as part of the scoping and planning process. Consultation with tribal governments will be accomplished as part of the planning process. Section 106 consultations with the Colorado State Historic Preservation Officer will be conducted as required by the National Historic Preservation Act. U. S. Fish and Wildlife Service Section 7 consultations will be conducted as required by the Endangered Species Act. BLM will consult with the U.S. Army Corps of Engineers as required by the Clean Water Act.

Dated: June 5, 2006.
Catherine Robertson,
Field Manager.

[FR Doc. E6-12010 Filed 7-26-06; 8:45 am]

BILLING CODE 4310-JB-P